DEPARTMENT OF TRANSPORTATION

National Highway Traffic Safety Administration

[NHTSA Docket No. NHTSA-2011-0097]

National Emergency Medical Services Advisory Council Teleconference Meeting

AGENCY: National Highway Traffic Safety Administration (NHTSA), Department of Transportation (DOT).

ACTION: Notice.

SUMMARY: The NHTSA announces a teleconference meeting of NEMSAC to be held on August 10, 2011, from 2 p.m. to 4 p.m. EDT. This notice announces the date, time, and call-in information for the meeting, which will be open to the public. The purpose of NEMSAC is to serve as a nationally recognized council of Emergency Medical Services (EMS) representatives and consumers to provide advice and recommendations regarding EMS to DOT's NHTSA and the Federal Interagency Committee on EMS.

DATES: The teleconference meeting will be held on August 10, 2011, from 2 p.m. to 4 p.m. EDT. A public comment period will take place on August 10, 2011, from 3:30 p.m. to 3:45 p.m. EDT.

Registration: This public meeting will be held via teleconference only. Members of the public who wish to attend must register online at https://www1.gotomeeting.com/register/523300112.

If you experience difficulty registering online, please contact Noah Smith at Noah.Smith@dot.gov or (202) 366-5030 for assistance. There will be limited call-in lines, so please register early. Pre-registration is necessary to enable proper arrangements.

FOR FURTHER INFORMATION CONTACT: Drew Dawson, Director, Office of Emergency Medical Services, National Highway Traffic Safety Administration, 1200 New Jersey Avenue SE., NTI-140, Washington, DC 20590; Telephone number (202) 366-9966; E-mail Drew.Dawson@dot.gov.

SUPPLEMENTARY INFORMATION: Notice of this meeting is given under the Federal Advisory Committee Act (FACA), Public Law 92-463, as amended (5 U.S.C. App. 1 et seq.) The NEMSAC will hold a meeting on Wednesday, August 10, 2011, from 2 p.m. to 4 p.m., via teleconference. The agenda of the NEMSAC Teleconference Meeting on August 10, 2011, tentatively includes:

(1) Opening Remarks—Chair and Designated Federal Officer

(2) Introduction of Members

(3) Progress Reports from Committee Chairs

(4) Update on the Culture of Safety Project

(5) Public Comment Period

(6) Next Steps and Future Meetings

Members of the public who wish to make comments on August 10, 2011, between 3:30 p.m. and 3:45 p.m. EDT are requested to register in advance. In order to allow for as many comments as possible, speakers are requested to limit their remarks to 3 minutes. For those wishing to submit written or oral comments, please contact Noah Smith at Noah.Smith@dot.gov or 202-366-5030.

Minutes of the NEMSAC Meeting will be available to the public online at www.ems.gov.

Issued on: July 1, 2011.
Jeffrey P. Michael,
Associate Administrator for Research and Program Development.

[FR Doc. 2011-17019 Filed 7-6-11; 8:45 am]

BILLING CODE 4910-59-P